DEPARTMENT OF TRANSPORTATION

Federal Aviation Administration

14 CFR Part 71

[Docket No. FAA-2017-0755; Airspace Docket No. 17-AEA-11]

RIN 2120-AA66

Revocation and Amendment of Class E Airspace, Philipsburg, PA

AGENCY: Federal Aviation Administration (FAA), DOT.

ACTION: Final rule.

SUMMARY: This action removes Class E surface airspace at Mid-State Airport, as the airport no longer qualifies for surface airspace. Also, this action removes Class E airspace extending upward from 700 feet above the surface at Philipsburg Area Hospital Heliport, as the Hospital has closed. Controlled airspace redesign is necessary for the safety and management of instrument flight rules (IFR) operations at Mid-State Airport.

DATES: Effective 0901 UTC, July 19, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave., College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends and removes Class E airspace in the Philipsburg, PA, area to support IFR operations.

History

The FAA published a notice of proposed rulemaking in the Federal Register (83 FR 1584, January 12, 2018) for Docket No. FAA-2017-0755 to remove Class E surface airspace at Mid-State Airport as the airport no longer qualifies for the airspace. Also, the Class E airspace extending upward from 700 feet or more above the surface surrounding Philipsburg Area Hospital Heliport is removed as the hospital has closed. Interested parties were invited to participate in this rulemaking effort by submitting written comments on the proposal to the FAA. No comments were received.

Class E airspace designations are published in paragraphs 6002 and 6005, respectively, of FAA Order 7400.11B dated August 3, 2017, and effective September 15, 2017, which is incorporated by reference in 14 CFR part 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 removes Class E surface airspace at Mid-State Airport as the airport no longer qualifies for the airspace. Also, this action amends Class E airspace extending upward from 700 feet or more above the surface at Phillipsburg, PA, by removing the controlled airspace area surrounding Philipsburg Area Hospital Heliport as the hospital has closed.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11B, Airspace Designations and Reporting Points, dated August 3, 2017, effective September 15, 2017, is amended as follows:

Paragraph 6002 Class E Surface Area Airspace.

* * * * *

AEA PA E2 Philipsburg, PA [Removed]

Paragraph 6005 Class E Airspace Areas Extending Upward From 700 Feet or More Above the Surface of the Earth.

* * * * *

AEA PA E5 Philipsburg, PA [Amended]

Mid-State Airport, PA

(Lat. 40°53′04″ N, long. 78°05′14″ W)

Philipsburg VORTAC

(Lat. 40°54′59″ N, long. 77°59′34″ W)

That airspace extending upward from 700 feet above the surface within a 6.6-mile radius of Mid-State Airport extending clockwise from the 261° bearing to the 012° bearing from the airport and within a 7.4-mile radius of Mid-State Airport extending clockwise from the 012° bearing to the 098° bearing from the airport and within a 6.6-mile radius of Mid-State Airport extending clockwise from the 098° bearing to the 183° bearing from the airport, and within a 8.3-mile radius of Mid-State Airport extending clockwise from the 183° bearing to the 261° bearing from the airport and within 3.1 miles each of the Philipsburg VORTAC 067° radial extending from the VORTAC to 10 miles northeast of the VORTAC, and within 3.5 miles each side of the 327° bearing from a point at lat. 40°53′09″ N, long. 78°05′06″ W, extending from said point to a point 7.4 miles northwest, and within 2.2 miles each side of the Philipsburg VORTAC 330° radial extending from the VORTAC to 5.3 miles northwest of the VORTAC and within 3.1 miles each side of the Philipsburg VORTAC 301° radial extending from the VORTAC to 10 miles northwest of the VORTAC.

Issued in College Park, Georgia, on May 31, 2018.
Ryan W. Almasy,
Manager, Operations Support Group, Eastern Service Center, Operations Support Group.

[FR Doc. 2018-12410 Filed 6-8-18; 8:45 am]

BILLING CODE 4910-13-P